DEPARTMENT OF HEALTH AND HUMAN SERVICES

Administration for Children and Families

Proposed Information Collection Activity; Comment Request

Proposed Project

Title: Head Start Family and Child Experiences Survey (FACES).

OMB No.: 0970-0151.

Description: The Administration for Children and Families (ACF), U.S. Department of Health and Human Services, is planning to collect data on a new cohort for the Head Start Family and Child Experiences Survey (FACES). FACES is a longitudinal study of a nationally representative sample of Head Start programs and children that will collect information for Head Start performance measures. Data for FACES will be collected annually through interviews with Head Start parents, teachers, program directors and other Head Start staff, as well as direct child assessments and observations of Head Start classrooms.

Information will be collected on a sample of approximately 3,500 children and families from 60 Head Start programs. The methods of data collection will include assessments of Head Start children, interviews with their parents, and ratings by their Head Start teachers. Site visitors will interview Head Start teachers in approximately 350 classrooms and make observations of the types and quality of classroom activities. Interviews will also be conducted with Head Start program directors and other staff. A follow-up for children in Kindergarten will include child assessments, parent interviews, and teacher questionnaires and child ratings.

Respondents: Parents of Head Start Children, Head Start Children, Head Start Teachers, Head Start Program Directors and Staff, and Kindergarten Teachers of former Head Start enrollees.

Annual Burden Estimates
Instrument | Annual number of respondents | Number of responses per respondent | Average burden hour per response | Estimated annual burden hours
Head Start Parent Interview | 2,589 | 1 | 0.83 | 2,149
Head Start Child Assessment | 2,589 | 1 | 0.75 | 1,942
Head Start Teacher Interview | 300 | 1 | 0.83 | 249
Head Start Teacher Child Rating | 300 | 8.6 | 0.25 | 645
Head Start Program Director Interview | 20 | 1 | 0.25 | 5
Head Start Center Director Interview | 40 | 1 | 0.75 | 30
Head Start Education Coordinator Interview | 40 | 1 | 0.75 | 30
Kindergarten Parent Interview | 771 | 1 | 0.75 | 578
Kindergarten Child Assessment | 771 | 1 | 0.75 | 578
Kindergarten Teacher Questionnaire and Child Rating | 643 | 1.2 | 0.50 | 386
Estimated Total Burden Hours |  |  |  | 6,592

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 28, 2008.
Steven M. Hanmer,
OPRE Reports Clearance Officer.

[FR Doc. E8-28655 Filed 12-3-08; 8:45 am]

BILLING CODE 4184-01-M